COMMISSION ON CIVIL RIGHTS

Sunshine Act Meetings

AGENCY: United States Commission on Civil Rights.

ACTION: Notice of meeting.

DATE AND TIME: Friday, March 9, 2012; 9:30 a.m. EST.

PLACE: 624 Ninth Street NW., Room 540, Washington, DC 20425.

MEETING AGENDA This meeting is open to the public.

I. Approval of Agenda

II. Approval of the February 3, 2012 Meeting Minutes

III. Program Planning Update and Discussion of Projects:

• VRA Statutory Enforcement Report Update

• Human Trafficking Briefing Update

• Immigration Briefing Update. Discussion of potential field briefing.

• Discussion on 2013 Statutory Report Selection Process

IV. Management and Operations

• Staff Director's report

• Chief of Regional Programs' report

• Discussion on Agency Staffing

V. State Advisory Committee Issues:

• Review of two Hawaii SAC applicants

• Re-chartering the Indiana SAC

• Re-chartering the District of Columbia SAC

• Re-chartering the Utah SAC

• Re-chartering the Maine SAC

• Re-chartering the Nevada SAC

VI. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: February 28, 2012.
Kimberly Tolhurst,
Senior Attorney-Advisor.

[FR Doc. 2012-5112 Filed 2-28-12; 2:00 pm]

BILLING CODE 6335-01-P